DEPARTMENT OF AGRICULTURE

Rural Utilities Service

7 CFR Part 1778

RIN 0572-AB90

Emergency and Imminent Community Water Assistance Grants

AGENCY: Rural Utilities Service, USDA.

ACTION: Proposed rule.

SUMMARY: The Rural Utilities Service (RUS) is amending its regulation governing Emergency Community Water Assistance Grants (ECWAG). This action is needed to comply with requirements set forth in the 2002 Farm Bill. The intended effect is to amend the regulation so that it allows eligibility for the program to be extended to situations where an emergency is considered imminent.

In the final rule section of this Federal Register, RUS is publishing this action as a direct final rule without prior proposal because RUS views this as a non-controversial action and anticipates no adverse comments. If no adverse comments are received in response to the direct final rule, no further action will be taken on this proposed rule and the action will become effective at the time specified in the direct final rule. If RUS receives adverse comments, a timely document will be published withdrawing the direct final rule and all public comments received will be addressed in a subsequent final rule based on this action

DATES: Comments on this proposed action must be received by RUS via facsimile transmission or carry a postmark or equivalent no later than September 4, 2003.

ADDRESSES: Submit adverse written comments or notice of intent to submit adverse comments to F. Lamont Heppe, Jr., Program Development and Regulatory Analysis, Rural Utilities Service, U.S. Department of Agriculture, 1400 Independence Ave., SW., STOP 1522, Room 5168, South Building, Washington, DC 20250, telephone number (202) 720-9550 or via facsimile transmission to (202) 720-4120. RUS requires a signed original and three copies of all comments (7 CFR Part 1700). All comments received will be made available for inspection in room 4034, South Building, Washington, DC, between 8 a.m. and 4 p.m. (7 CFR part 1.27(b)).

FOR FURTHER INFORMATION CONTACT: Robin Pulkkinen, Loan Specialist, Water and Environmental Programs, Rural Utilities Service, Room 2229 South Building, Stop 1570, 1400 Independence Ave. SW, Washington, DC 20250-1570. Telephone: (202) 720-9636, FAX: (202) 690-0649, E-mail: rpulkkin@rus.usda.gov.

SUPPLEMENTARY INFORMATION: See the Supplementary Information provided in the direct final rule located in the Rules and Regulations direct final rule section of this Federal Register for the applicable supplementary information on this action.

Dated: July 3, 2003.
Hilda Gay Legg,
Administrator, Rural Utilities Service.

[FR Doc. 03-19697 Filed 8-4-03; 8:45 am]

BILLING CODE 3410-15-P